DEPARTMENT OF AGRICULTURE

Forest Service

Forest Resource Coordinating Committee

AGENCY: Forest Service, USDA.

ACTION: Notice of meeting.

SUMMARY: The Forest Resource Coordinating Committee (Committee) will meet via teleconference. The Committee is established consistent with the Federal Advisory Committee Act of 1972 (FACA) (5 U.S.C. App. II), and the Food, Conservation, and Energy Act of 2008 (the Act) (Pub. L. 110-246). Additional information concerning the Committee can be found by visiting the Committee's Web site at http://www.fs.fed.us/spf/coop/frcc/.

DATES: The teleconferences will be held on the following dates:

• Thursday, March 20, 2014.

• Wednesday, April 16, 2014.

• Wednesday, May 21, 2014.

• Wednesday, June 18, 2014.

The time of the meetings will be from 12:00 p.m. to 1:00 p.m., Eastern Standard Time (EST).

ADDRESSES: The meetings will be held via teleconference. For anyone who would like to attend the teleconferences, please visit the Web site listed in the “New Information” section or contact Karl Dalla Rosa at kdallarose@fs.fed.us for further details. Written comments may be submitted as described under SUPPLEMENTARY INFORMATION. All comments, including names and addresses when provided, are placed in the record and are available for public inspection and copying. The public may inspect comments placed on the Committee's Web site listed above.

FOR FURTHER INFORMATION CONTACT: Karl Dalla Rosa, Acting Designated Federal Officer, Cooperative Forestry staff, 202-205-6206. Individuals who use telecommunication devices for the deaf (TDD) may call the Federal Information Relay Service (FIRS) at 1-800-877-8339 between 8:00 a.m. and 8:00 p.m., Eastern Standard Time, Monday through Friday.

SUPPLEMENTARY INFORMATION: The purpose of the meetings is to share information on topics relating to landscape scale conservation and USDA programs targeted to landscape scale conservation intiatives. The teleconferences are open to the public. The agenda will include time for people to make oral statements of three minutes or less. Individuals wishing to make an oral statement should submit a request in writing 10 days before the planned meeting to be scheduled on the agenda. Anyone who would like to bring related matters to the attention of the Committee may file written statements with the Committee staff before or after the meeting. Written comments and time requests for oral comments must be sent to Maya Solomon, 1400 Independence Avenue SW., Mailstop 1123, Washington, DC 20250 or by email to mayasolomon@fs.fed.us. A summary of the meeting will be posted on the Web site listed above within 21 days after the meeting.

Meeting Accommodations: If you are a person requiring reasonable accommodation, please make requests in advance for sign language interpreting, assistive listening devices or other reasonable accommodation for access to the facility or proceedings by contacting the person listed in the section titled For Further Information Contact. All reasonable accommodation requests are managed on a case by case basis.

Dated: January 27, 2014.
James E. Hubbard,
Deputy Chief, State and Private Forestry.

[FR Doc. 2014-02364 Filed 2-4-14; 8:45 am]

BILLING CODE 3411-15-P